DEPARTMENT OF TRANSPORTATION

National Highway Traffic Safety Administration

[DOT-NHTSA-2024-0032]

Federal Interagency Committee on Emergency Medical Services Notice of Public Meeting

AGENCY: National Highway Traffic Safety Administration, U.S. Department of Transportation (DOT).

ACTION: Notice of public meeting.

SUMMARY: This notice announces the Federal Interagency Committee on Emergency Medical Services (FICEMS) Post-crash Care Summit.

DATES: This meeting will be held in-person and simultaneously transmitted via virtual interface. It will be held on August 6, 2024, from 9 a.m. to 5 p.m. ET.

Pre-registration is required to attend this meeting. Once registered, a link permitting access to the meeting will be distributed to registrants by email.

ADDRESSES: General information about FICEMS is available on the website www.ems.gov. The registration portal and meeting agenda will be available at least one week in advance of the meeting.

FOR FURTHER INFORMATION CONTACT: Clary Mole, EMS Specialist, National Highway Traffic Safety Administration, U.S. Department of Transportation is available by phone at (202) 868-3275 or by email at Clary.Mole@dot.gov. Any committee-related requests should be sent to the person listed in this section.

SUPPLEMENTARY INFORMATION:

I. Background

FICEMS is authorized under section 10202 of the Safe, Accountable, Flexible, Efficient Transportation Equity Act: A Legacy for Users of 2005, codified at 42 U.S.C. 300d-4. The purpose of FICEMS is to ensure coordination among Federal agencies supporting local, regional, State, Tribal, and territorial EMS and 911 systems. The FICEMS provides an important forum for federal agencies and staff to work collaboratively to advance EMS delivery across the United States.

II. Agenda

At the meeting, the agenda will cover the following topics:

• Post-crash Care delivery challenges

• FICEMS Statement of Recommendations for Comprehensive EMS to Improve Post-crash Care

• National EMS Advisory Council (NEMSAC)'s Recommendations Letter to NHTSA about the Post-crash Care and the National Roadway Safety Strategy

• Best Practices for Post-crash Care and Opportunities for Improvement

• Other Focused Topic areas (Prehospital Blood Transfusion, Extrication Training, and Existing Guidelines for Field Trauma Triage and Clinical Care

III. Public Participation

This meeting will be open to the public. We are committed to providing equal access to this meeting for all participants. Persons with disabilities in need of an accommodation should send a request to the individual in the FOR FURTHER INFORMATION CONTACT section of this notice no later than July 30, 2024.

A period of time will be allotted for comments from members of the public joining the meeting. Members of the public may present questions and comments using the live chat feature available during the meeting. Members of the public may also submit materials, questions, and comments in advance to the individual listed in the FOR FURTHER INFORMATION CONTACT section of this notice.

Members of the public wishing to reserve time to speak during the meeting must submit a request. The request must include the name, contact information (address, phone number, and email address), and organizational affiliation of the individual wishing to speak; it must also include a written copy of prepared remarks and must be forwarded to the individual listed in the FOR FURTHER INFORMATION CONTACT section of this notice no later than July 30, 2024. All advance submissions will be reviewed. If approved, advance submissions shall be circulated to the Post-crash Care panelists for review prior to the meeting. All advance submissions will become part of the official record.

Authority: 42 U.S.C. 300d-4(b); 49 CFR part 1.95(i)(4).

Issued in Washington, DC.
Nanda Narayanan Srinivasan,
Associate Administrator, Research and Program Development.

[FR Doc. 2024-15517 Filed 7-15-24; 8:45 am]

BILLING CODE 4910-59-P